DEPARTMENT OF COMMERCE

National Oceanic and Atmospheric Administration

Agency Information Collection Activities; Submission to the Office of Management and Budget (OMB) for Review and Approval; Comment Request; The Ocean Enterprise: A Study of U.S. Business Activity in Ocean Measurement, Observation and Forecasting

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before November 22, 2022.

ADDRESSES: Interested persons are invited to submit written comments to Adrienne Thomas, NOAA PRA Officer, at NOAA.PRA@noaa.gov. Please reference OMB Control Number 0648-0712 in the subject line of your comments. Do not submit Confidential Business Information or otherwise sensitive or protected information.

FOR FURTHER INFORMATION CONTACT: Requests for additional information or specific questions related to collection activities should be directed to Carl Gouldman, Director, U.S. IOOS Office, National Ocean Service, National Oceanic and Atmospheric Administration, 1315 East-West Highway, Silver Spring, MD 20910, (240) 533-9454, carl.gouldman@noaa.gov.

SUPPLEMENTARY INFORMATION:

I. Abstract

This is a request for extension of an existing information collection.

NOAA's National Ocean Service's U.S. Integrated Ocean Observing System (IOOS) Office is requesting approval to continue a web-based survey of employers who provide either services or infrastructure to IOOS or organizations that add value to the IOOS data and other outputs by tailoring them for specific end uses. The purpose of the survey and overall project is to gather data to articulate the collective and derived value of the IOOS enterprise and to create a profile of businesses and organizations who are involved with providing services or utilizing the data for other specific end uses. This survey was conducted in FY2015 and FY2020, and is intended to be repeated on a regular basis in order to track the growth of the U.S. Ocean Enterprise. The survey is a critical data collection piece of the project and is necessary in order to collect demographic, financial, and functional information for each organization with regard to their involvement with IOOS. The final deliverable of this project is an analytic report detailing the findings of the web survey and the analysis of the employer database. The results will demonstrate the size and economic impact of IOOS data to the United States marine ocean sector.

II. Method of Collection

Electronically and via email.

III. Data

OMB Control Number: 0648-0712.

Form Number(s): None.

Type of Review: Regular submission; Extension of a current information collection.

Affected Public: Business or other for-profit organizations and Not-for-profit institutions.

Estimated Number of Respondents: 300.

Estimated Time Per Response: 0.5 hours.

Estimated Total Annual Burden Hours: 150.

Estimated Total Annual Cost to Public: $0.

Respondent's Obligation: Voluntary.

Legal Authority: Section 12304 of the Integrated Coastal and Ocean Observation System Act, part of the Omnibus Public Land Management Act of 2009 (Pub. L. 111- 11), and reauthorized under the Coordinated Ocean Observations and Research Act of 2020 (Pub. L. 116-271).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-20628 Filed 9-22-22; 8:45 am]

BILLING CODE 3510-JE-P